DEPARTMENT OF TRANSPORTATION

Research and Special Programs Administration

[Docket No. RSPA-98-4470]

Pipeline Safety: Meeting of the Technical Pipeline Safety Standards Advisory Committee and the Technical Hazardous Liquid Pipeline Safety Standards Committee

AGENCY: Office of Pipeline Safety, Research and Special Programs Administration, DOT.

ACTION: Notice; Meeting of the Technical Pipeline Safety Standards Committee and the Technical Hazardous Liquid Pipeline Safety Standards Committee.

SUMMARY: The Research and Special Programs Administration's (RSPA) Office of Pipeline Safety (OPS) will convene a conference call of the Technical Pipeline Safety Standards Committee (TPSSC) and the Technical Hazardous Liquid Pipeline Safety Standards Committee (THLPSSC) to vote on a proposed rule to require underwater periodic inspection of gas and hazardous liquid pipelines. The advisory committees will discuss the proposals and comments and vote on the reasonableness, cost-effectiveness, and practicability of the proposed regulation.

ADDRESSES: The conference call will be held on June 30, 2004, from 1 p.m. to 4 p.m., EST. The Advisory Committee members will participate via telephone conference call. Members of the public may attend the meeting at the U.S. Department of Transportation, 400 Seventh Street, SW., Washington, DC Room 6332-6336.

An opportunity will be provided for the public to make short statements on the topic under discussion. Anyone wishing to make an oral statement should notify Jean Milam, (202) 493-0967, not later than June 25, 2004, on the topic of the statement and the length of the presentation. The presiding officer at the meeting may deny any request to present an oral statement and may limit the time of any presentation.

You may submit comments [identified by DOT DMS Docket Number RSPA-03-15852] by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal Holidays.

• Federal Rulemaking Portal: Go to http://www.regulations.gov. Follow the online instructions for submitting comments.

Instructions: All submissions must include the agency name and docket number or Regulatory Identification Number (RIN for this rulemaking). For detailed instructions on submitting comments and additional information on the rulemaking process, see the Public Participation heading of the Supplementary Information section of this document. Note that all comments received will be posted without change to http://dms.dot.gov. including any personal information provided. Please see the Privacy Act heading under Regulatory Notices.

Docket: For access to the docket to read background documents or comments received, go to http://dms.dot.gov at any time or to Room PL-40 on the plaza level of the Nassif Building, 400 Seventh Street, SW., Washington, DC, between 9 a.m. and 5 p.m., Monday through Friday, except Federal Holidays.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

You may obtain copies of this proposed rule or other material in the docket. All materials in this docket may be accessed electronically at http://dms.dot.gov.

Information on Services for Individuals With Disabilities

For information on facilities or services for individuals with disabilities or to request special assistance at the meeting, contact Jean Milam at (202) 493-0967.

FOR FURTHER INFORMATION CONTACT: Cheryl Whetsel, RSPA/OPS, (202) 366-4431 or Richard Huriaux, RSPA/OPS, (202) 366-4565, in regard to the subject matter of this notice.

SUPPLEMENTARY INFORMATION: The TPSSC and THLPSSC are statutorily mandated advisory committees that advise the Research and Special Programs Administration's Office of Pipeline Safety on proposed safety standards for gas and hazardous liquid pipelines. These advisory committees are constituted in accordance with section 10(a)(2) of the Federal Advisory Committee Act (Pub. L. 92-463, 5 U.S.C. App. 1). The committees consist of 15 members—five each representing government, industry, and the public. The TPSSC and THLPSSC are tasked with determining reasonableness, cost-effectiveness, and practicability of proposed pipeline regulations.

Federal law requires that RSPA/OPS submit cost-benefit analyses and risk assessment information on proposed safety standards to the advisory committees. The TPSSC and the THLPSSC evaluate the merits of the data and methods used within the analyses, and when appropriate, provide recommendations relating to the cost-benefit analyses.

The advisory committees will discuss the Notice of Proposed Rulemaking (NPRM) entitled, “Pipeline Safety: Underwater Periodic Inspection” (68 FR 69368) and vote on the reasonableness, cost-effectiveness, and practicability of the proposed regulation. The NPRM proposes to amend the pipeline safety regulations to require operators of gas and hazardous liquid pipelines to have procedures for periodic inspections of underwater pipeline facilities in waters less than 15 feet deep. These inspections will inform the operator if the pipeline is exposed or a hazard to navigation.

RSPA/OPS will issue a final rule based on the proposed rule, the comments received from the public, and the vote and comments of the advisory committees.

Authority: 49 U.S.C. 60102, 60115.

Issued in Washington, DC on June 17, 2004.
Richard D. Huriaux,
Director, Technical Standards.

[FR Doc. 04-14076 Filed 6-21-04; 8:45 am]

BILLING CODE 4910-60-P